DEPARTMENT OF ENERGY

Federal Energy Regulatory Commission

[Project No. 2459-279]

Lake Lynn Generation, LLC; Notice of Scoping Meetings and Environmental Site Review, and Soliciting Scoping Comments

Take notice that the following hydroelectric application has been filed with the Commission and is available for public inspection.

a. Type of Application: New Major License.

b. Project No.: P-2459-279.

c. Date Filed: November 30, 2022.

d. Applicant: Lake Lynn Generation, LLC.

e. Name of Project: Lake Lynn Hydroelectric Project.

f. Location: On the Cheat River, near the City of Morgantown, in Monongalia County, West Virginia, and near the Borough of Point Marion, in Fayette County, Pennsylvania.

g. Filed Pursuant to: Federal Power Act 16 U.S.C. 791(a)-825(r).

h. Applicant Contact: Ms. Joyce Foster, Director, Licensing and Compliance, Lake Lynn Generation, LLC, 7315 Wisconsin Ave., Suite 1100W, Bethesda, MD 20814; Phone at (804) 338-5110, or email at joyce.foster@eaglecreekre.com.

i. FERC Contact: Allan Creamer at (202) 502-8365, or email at allan.creamer@ferc.gov.

j. Deadline for filing scoping comments: October 25, 2023.

The Commission strongly encourages electronic filing. Please file scoping comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, 1-866-208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852. All filings must clearly identify the following on the first page: Lake Lynn Hydroelectric Project No. 2459-279.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. The application is not ready for environmental analysis at this time.

l. Project Description: (1) a 13-mile-long, 1,729-acre impoundment (Cheat Lake or Lake Lynn) with a maximum storage capacity of 72,300 acre-feet at a normal water surface elevation of 870 feet National Geodetic Vertical Datum of 1929 (NGVD 29) and a minimum storage capacity of 51,100 acre-feet at 857 feet NGVD 29; (2) a 1,000-foot-long, 125-foot-high, concrete gravity dam with a 624-foot-long spillway section controlled by 26, 21-foot-wide by 17-foot-high, Tainter gates; (3) a concrete intake structure equipped with a log boom and eight trash racks with 4-inch clear bar spacing; (4) eight 12-foot-wide by 18-foot-deep gated reinforced concrete penstocks; (5) a 160-foot-long by 94.5-foot-wide powerhouse containing four Francis generating units with a combined capacity of 51.2 megawatts; and (6) two 800-foot-long transmission lines that run from the powerhouse to a substation within the project boundary.

The Lake Lynn Project is currently operated as a dispatchable peaking facility, with storage. The current license requires Lake Lynn Generation, LLC to maintain Cheat Lake between 868 feet and 870 feet NGVD 29 from May 1 through October 31, 857 feet and 870 feet NGVD 29 from November 1 through March 31, and 863 feet and 870 feet NGVD 29 from April 1 through April 30 each year. The current license also requires Lake Lynn Generation, LLC to release a downstream minimum flow of 212 cubic-feet-per-second (cfs), or inflow, from the dam when not generating, with an absolute minimum flow of 100 cfs regardless of inflow, when not generating. The project generates about 144,741 megawatt-hours annually. Lake Lynn Generation, LLC proposes no modifications to its existing facilities or operations. Lake Lynn Generation, LLC proposes new environmental measures and to remove approximately 307 acres of land from the existing project boundary.

m. Copies of the application can be viewed on the Commission's website at https://www.ferc.gov, using the “eLibrary” link. Enter the project's docket number, excluding the last three digits in the docket number field, to access the document. For assistance, contact FERC Online Support.

You may also register at https://ferconline.ferc.gov/FERCOnline.aspx to be notified via email of new filings and issuances related to this or other pending projects. For assistance, please contact FERC Online Support at FERCOnlineSupport@ferc.gov.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595, or at OPP@ferc.gov.

n. Scoping Process

Pursuant to the National Environmental Policy Act (NEPA), Commission staff intends to prepare either an environmental assessment (EA) or an environmental impact statement (EIS) (collectively referred to as the “NEPA document”) that describes and evaluates the probable effects, including an assessment of the site-specific and cumulative effects, if any, of the proposed action and alternatives. The Commission's scoping process will help determine the required level of analysis and satisfy the NEPA scoping requirements, irrespective of whether the Commission issues an EA or an EIS.

Scoping Meetings

Commission staff will hold two scoping meetings for the project to receive input on the scope of the NEPA document. A daytime meeting will be held at 2:00 p.m. on September 25, 2023, at the Cranberry Hotel in Morgantown, West Virginia, and will focus on the concerns of resource agencies, Native American Tribes, and non-governmental organizations (NGOs). An evening meeting will be held at 6:00 p.m. on September 25, 2023, at the same location, and will focus on receiving input from the public. We invite all interested agencies, Native American Tribes, NGOs, and individuals to attend one or both of these meetings. The times and locations of these meetings are as follows:

Daytime Scoping Meeting

Date: Monday, September 25, 2023

Time: 2:00 p.m. (EDT)

Place: Cranberry Hotel

Address: 2700 Cranberry Square, Morgantown, WV 26508

Evening Scoping Meeting

Date: Monday, September 25, 2023

Time: 6:00 p.m. (EDT)

Place: Cranberry Hotel

Address: 2700 Cranberry Square, Morgantown, WV 26508

Copies of the Scoping Document (SD1) outlining the subject areas to be addressed in the NEPA document were distributed to the parties on the Commission's mailing list and Lake Lynn Generation LLC's distribution list. Copies of the SD1 will be available at the scoping meeting or may be viewed on the web at http://www.ferc.gov, using the “eLibrary” link (see item m above).

Environmental Site Review

The applicant and Commission staff will conduct an environmental site review of the project on September 26, 2023, beginning at 9:30 a.m. All interested agencies, Native American Tribes, NGOs, and individuals are invited to attend. All participants are responsible for their own transportation to the site and during the environmental site review. Please RSVP via email to joyce.foster@eaglecreekre.com, or notify Joyce Foster at (804) 338-5110 on or before September 19, 2023, if you plan to attend the environmental site review. The time and location of the environmental site review are as follows:

Lake Lynn Hydroelectric Project

Date: Tuesday, September 26, 2023

Time: 9:30 a.m. (EDT)

Place: Tailwater Fishing Access parking area

Address: Lake Lynn Project Powerhouse, 600 Lake Lynn Road, Lake Lynn, PA 15451

All persons attending the environmental site review must adhere to the following requirements: (1) all persons must wear sturdy, closed-toe shoes or boots; (2) persons with open-toed shoes/sandals/flip flops/high heels, etc. will not be allowed on the environmental site review; (3) persons must be 18 years or older, or be accompanied by an adult; (4) no photography will be allowed inside the powerhouse; (5) no weapons are allowed on-site; (6) no alcohol/drugs are allowed on-site (or persons exhibiting the effects thereof); and (7) no animals (except for service animals) are allowed on the environmental site review.

Objectives

At the scoping meetings, Commission staff will: (1) summarize the environmental issues tentatively identified for analysis in the NEPA document; (2) solicit from the meeting participants all available information, especially quantifiable data, on the resources at issue; (3) encourage statements from experts and the public on issues that should be analyzed in the NEPA document, including viewpoints in opposition to, or in support of, the staff's preliminary views; (4) determine the resource issues to be addressed in the NEPA document; and (5) identify those issues that require a detailed analysis, as well as those issues that do not require a detailed analysis.

Procedures

The meetings will be recorded by a court reporter and become part of the Commission's formal record on the project. Agencies, Native American Tribes, NGOs, and individuals with environmental expertise and concerns are encouraged to attend the meetings and to assist the staff in defining and clarifying the issues to be addressed in the NEPA document.

Dated: August 24, 2023.
Debbie-Anne A. Reese,
Deputy Secretary.

[FR Doc. 2023-18751 Filed 8-29-23; 8:45 am]

BILLING CODE 6717-01-P